DEPARTMENT OF COMMERCE

International Trade Administration

[A-570-601]

Tapered Roller Bearings and Parts Thereof, Finished and Unfinished, from the People's Republic of China: Final Results of 2000-2001 Administrative Review, Partial Rescission of Review, and Determination to Revoke Order, in Part

AGENCY: Import Administration, International Trade Administration, Department of Commerce.

ACTION: Notice of final results of 2000-2001 administrative review, partial rescission of the review, and determination to revoke the order in part.

SUMMARY: We have determined that sales of tapered roller bearings and parts thereof, finished and unfinished, from the People's Republic of China, were made below normal value during the period June 1, 2000, through May 31, 2001. We are also rescinding the review, in part, in accordance with 19 CFR 351.213(d)(3).

Based on our review of comments received and a reexamination of surrogate value data, we have made certain changes in the margin calculations of all of the reviewed companies. Consequently, the final results differ from the preliminary results. The final weighted-average dumping margins for these firms are listed below in the section entitled “Final Results of the Review.” Based on these final results of review, we will instruct the Customs Service to assess antidumping duties based on the difference between the export price and normal value on all appropriate entries.

Tianshui Hailin Import and Export Corporation and Hailin Bearing Factory, Wanxiang Group Corporation, and Zhejiang Machinery Import & Export Corp. have requested revocation of the antidumping duty order in part. Based on record evidence, we find that only Tianshui Hailin Import and Export Corporation and Hailin Bearing Factory qualifies for revocation. Accordingly, we are revoking the order with respect to the subject merchandise produced and exported by Tianshui Hailin Import and Export Corporation and Hailin Bearing Factory.

EFFECTIVE DATE: November 14, 2002.

FOR FURTHER INFORMATION CONTACT: Melani Miller, S. Anthony Grasso, Andrew Smith, or Daniel J. Alexy, Group 1, Office I, Antidumping/Countervailing Duty Enforcement, Import Administration, International Trade Administration, U.S. Department of Commerce, 14th Street and Constitution Avenue NW, Washington, DC 20230; telephone (202) 482-0116, (202) 482-0189, (202) 482-3853, (202) 482-1174, and (202) 482-1540, respectively.

SUPPLEMENTARY INFORMATION:

The Applicable Statute

Unless otherwise indicated, all citations to the Tariff Act of 1930, as amended (“the Act”), are references to the provisions effective January 1, 1995, the effective date of the amendments made to the Act by the Uruguay Round Agreements Act. In addition, unless otherwise indicated, all citations to the Department of Commerce's (“the Department”) regulations are to 19 CFR Part 351 (April 2001).

Background

On July 9, 2002, the Department published the preliminary results of this review of tapered roller bearings and parts thereof, finished and unfinished (“TRBs”) from the People's Republic of China (“PRC”). See Tapered Roller Bearings and Parts Thereof, Finished and Unfinished, From the People's Republic of China: Preliminary Results of 2000-2001 Administrative Review, Partial Rescission of Review, and Notice of Intent to Revoke Order in Part, 67 FR 45451 (July 9, 2002) (“Preliminary Results”). The period of review (“POR”) is June 1, 2000, through May 31, 2001. This review covers the following producers or exporters (referred to collectively as “the respondents”): Zhejiang Machinery Import &Export Corp. (“ZMC”), Wanxiang Group Corporation (“Wanxiang”), China National Machinery Import & Export Corporation (“CMC”), Tianshui Hailin Import and Export Corporation and Hailin Bearing Factory (“Hailin”), Luoyang Bearing Corporation (Group) (“Luoyang”), and Weihai Machinery Holding (Group) Co., Ltd. (“Weihai”), Chin Jun Industrial Ltd. (“Chin Jun”).

We invited parties to comment on the Preliminary Results. On September 9, 2002, we received case briefs from the Timken Company (“the petitioner”), ZMC, and a combined case brief from CMC, Luoyang, Wanxiang, and Hailin. On September 17, 2002, each of these parties submitted rebuttal briefs.

The Department has conducted this administrative review in accordance with section 751 of the Act.

Scope of Review

Merchandise covered by this review is TRBs from the PRC; flange, take up cartridge, and hanger units incorporating tapered roller bearings; and tapered roller housings (except pillow blocks) incorporating tapered rollers, with or without spindles, whether or not for automotive use. This merchandise is currently classifiable under the Harmonized Tariff Schedule of the United States (“HTSUS”) item numbers 8482.20.00, 8482.91.00.50, 8482.99.30, 8483.20.40, 8483.20.80, 8483.30.80, 8483.90.20, 8483.90.30, 8483.90.80, 8708.99.80.15, and 8708.99.80.80. Although the HTSUS item numbers are provided for convenience and customs purposes, the written description of the scope of the order and this review is dispositive.

Rescission of Review in Part

As noted in the Preliminary Results, on April 4, 2002, Weihai withdrew its request for a review. The petitioner did not request a review for Weihai. While Weihai's rescission request was made more than 90 days after initiation, 19 CFR 351.213(d)(1) provides that the Department may extend this deadline, and it is the Department's practice to do so where it poses no undue burden on the parties or on the Department. Therefore, in accordance with 19 CFR 351.213(d)(1), we have accepted Weihai's request and we are rescinding the review with respect to Weihai. For a complete discussion of this decision see the Memorandum from Team to Susan Kuhbach, “Partial Rescission of Review,” dated May 20, 2002, which is on file in the Department's Central Records Unit located in the main Commerce building in Room B-099 (“CRU”).

With respect to Chin Jun, as stated in the Preliminary Results, Chin Jun reported no shipments of subject merchandise to the United States during the POR. Entry data provided by the Customs Service confirms that there were no POR entries from Chin Jun of TRBs. Therefore, consistent with the Department's regulations and practice, we are rescinding this review with respect to Chin Jun. (See 19 CFR 351.213(d)(3); see, also, Silicon Metal from Brazil; Final Results of Antidumping Duty Administrative Review, 61 FR 46763 (September 5, 1996).)

Determination To Revoke the Order, In Part

The Department “may revoke, in whole or in part” an antidumping duty order upon completion of a review under section 751 of the Act. While Congress has not specified the procedures that the Department must follow in revoking an order, the Department has developed a procedure for revocation that is described in 19 CFR 351.222. This regulation requires, inter alia, that a company requesting revocation must submit the following: (1) A certification that the company has sold the subject merchandise at not less than NV in the current review period and that the company will not sell at less than NV in the future; (2) a certification that the company sold the subject merchandise in each of the three years forming the basis of the request in commercial quantities; and (3) an agreement to reinstatement of the order if the Department concludes that the company, subsequent to the revocation, sold subject merchandise at less than NV. See 19 CFR 351.222(e)(1).

As noted in the Preliminary Results, pursuant to 19 CFR 351.222(e)(1), Hailin, Wanxiang, and ZMC requested revocation of the antidumping duty order as it pertains to them. Weihai also requested revocation of the antidumping duty order, in part, on this same basis. However, as we are rescinding this review with respect to Weihai, as discussed above, no further analysis is required with respect to partial revocation of the antidumping duty order as it pertains to Weihai.

According to 19 CFR 351.222(b)(2), upon receipt of such a request, the Department may revoke an order, in part, if it concludes that (1) the company in question has sold subject merchandise at not less than NV for a period of at least three consecutive years; (2) the continued application of the antidumping duty order is not otherwise necessary to offset dumping; and (3) the company has agreed to its immediate reinstatement in the order if the Department concludes that the company, subsequent to the revocation, sold subject merchandise at less than NV.

With respect to ZMC, we find that a dumping margin exists for ZMC in the instant review. Moreover, in Tapered Roller Bearings and Parts Thereof, Finished and Unfinished, From the People's Republic of China; Final Results of 1998-1999 Administrative Review, Partial Rescission of Review, and Determination Not to Revoke Order in Part, 66 FR 1953 (January 10, 2001) and Tapered Roller Bearings and Parts Thereof, Finished and Unfinished, From the People's Republic of China; Amended Final Results of 1998-1999 Administrative Review and Determination to Revoke Order in Part, 66 FR 11562 (February 26, 2001) (collectively, “TRBs XII”), ZMC was found to have made sales below NV. Because ZMC does not have three consecutive years of sales at not less than NV, we find that ZMC does not qualify for revocation of the order on TRBs pursuant to 19 CFR 351.222(b).

As for Wanxiang, in TRBs XII and Tapered Roller Bearings and Parts Thereof, Finished and Unfinished, From the People's Republic of China; Final Results of 1999-2000 Administrative Review, Partial Rescission of Review, and Determination Not to Revoke Order in Part, 66 FR 57420 (November 15, 2001), we determined that Wanxiang did not qualify for revocation because it did not sell the subject merchandise in the United States in commercial quantities in each of the three years underlying its request for revocation. In the instant review, based on our previous determination that Wanxiang did not make sales in commercial quantities during at least one of the three years forming the basis of the revocation request, i.e., TRBs XII, we do not need to examine whether Wanxiang made sales in commercial quantities in either of the other two years underlying Wanxiang's request for revocation. Thus, because Wanxiang did not make sales in commercial quantities in each of the three years cited by the company to support its revocation request, we find that Wanxiang does not qualify for revocation of the order on TRBs pursuant to 19 CFR 351.222(b).

Finally, with respect to Hailin, Hailin sold the subject merchandise at not less than NV for a period of at least three consecutive years. Hailin has also agreed in writing to the immediate reinstatement in the order, as long as any exporter or producer is subject to the order, if the Department concludes that Hailin, subsequent to the revocation, sold the subject merchandise at less than NV. Finally, based on our examination of the sales data submitted by Hailin (see Hailin's July 1, 2002, preliminary results calculation memorandum, which is on file in the Department's CRU, for our commercial quantities analysis with respect to this data), we determine that Hailin sold the subject merchandise in the United States in commercial quantities in each of the three years cited by Hailin to support its request for revocation. Therefore, based on the above facts, and absent evidence on the record that the continued application of the antidumping order is otherwise necessary to offset dumping from Hailin, we determine that Hailin qualifies for revocation of the order on TRBs pursuant to 19 CFR 351.222(b)(2). Accordingly, we are revoking the order with respect to merchandise produced and exported by Hailin.

Use of Facts Otherwise Available

As discussed in detail in the Preliminary Results, we have determined that companies which did not respond to the Department's questionnaire in this proceeding should not receive separate rates and, thus, are viewed as part of the PRC-wide entity. Moreover, as noted in the Preliminary Results, we determine that, in accordance with sections 776(a) and (b) of the Act, the use of adverse facts available is appropriate for companies that did not respond to our requests for information. No party in this proceeding has commented on these issues since the publication of the Preliminary Results. Thus, for these final results, we have continued to assign the PRC-wide rate of 33.18 percent to companies that are part of the PRC-entity.

Analysis of Comments Received

All issues raised in the case and rebuttal briefs by parties to this investigation are addressed in the “Issues and Decision Memorandum” from Richard W. Moreland, Deputy Assistant Secretary, Import Administration, to Faryar Shirzad, Assistant Secretary, Import Administration, dated November 6, 2002 (“Decision Memorandum”), which is hereby adopted by this notice. Attached to this notice as an Appendix is a list of the issues that parties have raised and to which we have responded in the Decision Memorandum. Parties can find a complete discussion of all issues raised in this investigation and the corresponding recommendations in this public memorandum which is on file in the CRU. In addition, a complete version of the Decision Memorandum can be accessed directly on the Internet at http://ia.ita.doc.gov/frn/ under the heading “China PRC.” The paper copy and electronic version of the Decision Memorandum are identical in content.

Changes Since the Preliminary Results

Based on our review of comments received and a reexamination of surrogate value data, we have made certain changes to the calculations for the final results. These changes are discussed in the following Comments in the Decision Memorandum or in the referenced final calculation memoranda for particular companies:

All Companies

• Cup and Cone Steel Valuation

Decision Memorandum Comment 2

• Roller and Cage Steel and Scrap Valuations

Decision Memorandum Comment 4

• Profit Ratio

Decision Memorandum Comment 5

Assessment Rates

In the Preliminary Results, we miscalculated the per-unit assessment rates of Luoyang, Hailin, and ZMC by incorrectly multiplying the importer-specific per-unit duty by 100. This error has been corrected in these final results. Also, for all respondents, we have added programming language to determine whether the importer-specific duty assessment rates were de mimimis (i.e., less than 0.50 percent).

Wanxiang

We excluded domestic brokerage and handling costs from Wanxiang's reported SG&A labor factor and deducted these expenses as a movement expense in Wanxiang's U.S. price calculation. See Comment 12 in the Decision Memorandum.

ZMC

We revised ZMC's final results calculations to take into account a minor reporting error noted by ZMC in its case briefs. See Memorandum from Case Analyst to File, “Final Results Calculation Memorandum for Zhejiang Machinery Import and Export Corporation,” dated November 6, 2002, which is on file in the Department's CRU.

Final Results of Review

We determine that the following dumping margins exist for the period June 1, 2000, through May 31, 2001:

Exporter/manufacturer | Weighted-average margin percentage.
China National Machinery Import & Export Corporation | 0.71
Wanxiang Group Corporation | 0.00
Tianshui Hailin Import and Export Corporation and Hailin Bearing Factory | 0.00
Luoyang Bearing Corporation (Group) | 0.06 (de minimis)
Zhejiang Machinery Import & Export Corp. | 0.81
PRC-wide rate | 33.18

Assessment Rates

In accordance with 19 CFR 351.212(b)(1), we have calculated importer (or customer)-specific assessment rates for the merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer). Where an importer (or customer)-specific ad valorem rate was greater than de minimis, we calculated a per unit assessment rate by aggregating the dumping margins calculated for all U.S. sales to that importer (or customer) and dividing this amount by the total quantity sold to that importer (or customer). All entries subject to the PRC-wide rate will be assessed duties at the PRC-wide rate listed above.

All other entries of the subject merchandise during the POR will be liquidated at the antidumping duty rate in place at the time of entry.

The Department will issue appropriate assessment instructions directly to the Customs Service within 15 days of publication of these final results of review.

Cash Deposit Requirements

The following cash deposit requirements will be effective upon publication of the final results of this administrative review for all shipments of the subject merchandise entered, or withdrawn from warehouse, for consumption on or after the publication date, as provided for by section 751(a)(1) of the Act: (1) for the PRC companies named above, the cash deposit rates will be the rates for these firms shown above, except that, for exporters with de minimis rates (i.e., less than 0.5 percent) no deposit will be required; (2) for previously-reviewed PRC and non-PRC exporters with separate rates, the cash deposit rate will be the company-specific rate established for the most recent period for which they were reviewed; (3) for all other PRC exporters, the rate will be the PRC country-wide rate, which is 33.18 percent; and (4) for all other non-PRC exporters of subject merchandise from the PRC, the cash deposit rate will be the rate applicable to the PRC supplier of that exporter. These deposit requirements, when imposed, shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections section 751(a)(1) and 771(i) of the Act.

Dated: November 6, 2002.
Faryar Shirzad,
Assistant Secretary for Import Administration.

APPENDIX

List of Comments and Issues in the Decision Memorandum

Comment 1: Steel Data Used for Valuing Cups and Cones is Aberrational

Comment 2: Excluding Certain Data from the Cups and Cones Valuation

Comment 3: Steel Data Used for Valuing Rollers and Cages is Aberrational

Comment 4: Excluding Certain Data Used in Steel and Scrap Surrogate Values

Comment 5: Overhead, Selling, General, and Administrative Expense (“SG&A”), and Profit Ratios

Comment 6: Marine Insurance

Comment 7: Energy Factors

Comment 8: Seals Allegedly Used in the Manufacture of TRBs

Comment 9: Treatment of Sales Above Normal Value (“NV”)

Comment 10: Revocations

Comment 11: Wanxiang Group Corporation (“Wanxiang”) Constructed Export Price (“CEP”) vs. Export Price (“EP”) Sales

Comment 12: Wanxiang Domestic Brokerage and Handling

Comment 13: Wanxiang Credit Expenses

Comment 14: Zhejiang Machinery Import & Export Corp.'s (“ZMC”) Market Economy Steel

Comment 15: ZMC Ocean Freight

Comment 16: Valuation of ZMC's Ocean Freight Costs on a Packed Weight Basis

Comment 17: ZMC Labor Hours

Comment 18: China National Machinery Import & Export Corporation (“CMC”) Cage Steel

Comment 19: Valuation of CMC's U.S. Inland Freight Costs on a Packed Weight Basis

[FR Doc. 02-28924 Filed 11-13-02; 8:45 am]

BILLING CODE 3510-DS-S